DEPARTMENT OF THE INTERIOR

Fish and Wildlife Service

50 CFR Part 17

[Docket No. FWS-R4-ES-2010-0055; MO-92210-0-0008-B2]

Endangered and Threatened Wildlife and Plants; 90-Day Finding on a Petition To List the Bay Springs Salamander as Endangered

AGENCY: Fish and Wildlife Service, Interior.

ACTION: Notice of 90-day petition finding.

SUMMARY: We, the U.S. Fish and Wildlife Service, announce a 90-day finding on a petition to list the Bay Springs salamander (Plethodon ainsworthi) as endangered under the Endangered Species Act of 1973, as amended. Based on our review, we find the petition does not present substantial information indicating that listing may be warranted at this time. Therefore, we are not initiating a status review in response to this petition. However, we ask the public to submit to us any new information that becomes available concerning the status of, or threats to, the Bay Springs salamander or its habitat at any time.

DATES: The finding announced in this document was made on November 2, 2010.

ADDRESSES: This finding is available on the Internet at http://www.regulations.gov at Docket Number FWS-R4-ES-2010-0055. Supporting documentation we used in preparing this finding is available for public inspection, by appointment, during normal business hours at the U.S. Fish and Wildlife Service, MS Field Office, 6578 Dogwood View Parkway, Jackson, Mississippi 39213. Please submit any new information, materials, comments, or questions concerning this finding to the above street address.

FOR FURTHER INFORMATION CONTACT: Stephen Ricks, Field Supervisor, Mississippi Field Office (see ADDRESSES), by telephone (601-321-1122), or by facsimile (601-965-4340). If you use a telecommunications device for the deaf (TDD), please call the Federal Information Relay Service (FIRS) at 800-877-8339.

SUPPLEMENTARY INFORMATION:

Background

Section 4(b)(3)(A) of the Endangered Species Act of 1973, as amended (Act) (16 U.S.C. 1531 et seq.) requires that we make a finding on whether a petition to list, delist, or reclassify a species presents substantial scientific or commercial information indicating the petitioned action may be warranted. We base this finding on information provided in the petition, supporting information submitted with the petition, and information otherwise readily available in our files. The Act requires, to the maximum extent practicable, we are to make this finding within 90 days of our receipt of the petition, and publish our notice of the finding promptly in the Federal Register.

Our standard for substantial scientific or commercial information within the Code of Federal Regulations (CFR) with regard to a 90-day petition finding is “that amount of information that would lead a reasonable person to believe that the measure proposed in the petition may be warranted” (50 CFR 424.14(b)). If we find that substantial scientific or commercial information was presented, the Act requires that we promptly review the status of the species (status review), which is subsequently summarized in our 12-month finding.

Petition History

On February 6, 2006, we received a petition, dated February 2, 2006, from Mr. Jeremy Nichols, Denver, Colorado, requesting that the Bay Springs salamander (Plethodon ainsworthi) be listed as endangered under the Act. The petition clearly identified itself as such and included the requisite identification information for the petitioner, as required at 50 CFR 424.14(a). In a March 3, 2006, letter to petitioner, we stated that we did not have sufficient funds to respond to the petition at that time due to a significant number of court orders and judicially approved settlement agreements for other listing-related actions, which had consumed nearly all of our listing and critical habitat funding for fiscal year 2006. On May 1, 2007, we notified Mr. Nichols, by letter, that funding had become available to complete this 90-day finding. This finding addresses the petition.

Species Information

The Bay Springs salamander (Plethodon ainsworthi) was described as a species by Lazell (1998) from two badly preserved specimens believed to be collected in a single springhead in 1964 near the town of Bay Springs in Jasper County, Mississippi (Lazell 1998, p. 967; MNHP 1999, p. 3). The Bay Springs salamander was differentiated from other members of the Plethodon genus, or woodland salamanders, in its very slender body shape, low costal (side) groove count, and small legs. Because the features of the more derived groups within the genus are present, Lazell (2005, p. 787) speculated that the Bay Springs salamander is distinct and may be close to the ancestral stock of the genus. Based on these unique features, Lazell (1998) recommended the Bay Springs salamander be recognized as a distinct species, Plethodon ainsworthi.

The petition did not provide any definitive information on life history, distribution or habitat of this species, and such information does not exist in Service files. The original type locality of the only two specimens collected for this species is described as a 2-hectare (4.9-acre) mixed mesic woodland area (Lazell 1998, pp. 969-970). Lazell noted after a 1991 visit that this site and nearby Six Springs were both intact and in good ecological condition, although much of the surrounding area had been severely altered (Lazell 2005, pp. 787-788). However, this type locality, listed only as “2 Mi S. of Bay Springs” with the notes “In springhead litter. Clear hot day 11 a.m.” (Lazell 1998, p. 967), has been questioned. Lazell (1998, pp. 967, 969; 2005, p. 787) refers to the collection location as “presumed.” Mississippi Natural Heritage Program (MNHP 1999, p. 2) described the site after a 1997 survey as “springhead on Ainsworth property matches distance from Bay Springs given on collection label, but it is not certain that Ainsworth property is indeed the collection site.” Additionally, the petition stated, “it is unclear whether this habitat represents the species' true habitat, or the habitat that existed when the salamander was last collected in 1964, or an altered habitat.”

Despite the question of the original collection site, numerous surveys using visual searching and coverboard techniques were conducted at the presumed type locality and at three other possible sites, including Six Springs, by multiple researchers beginning in 1991 (Lazell 1998, p. 970; 2005, p. 787; MNHP 1999). These searches revealed several salamander species, including others in the genus Plethodon, and although a night hunt in 1995 produced a glimpse of a possible Bay Springs salamander, subsequent searches in 1995 and 1997 produced no further evidence of the species (Lazell 2005, p. 787).

Therefore, despite numerous searches of the presumed type locality, no extant populations of the Bay Springs salamander have been located (Lazell 1998, p. 967, p. 970; 2005, p. 787). In addition to the failure to find the species during multiple search efforts, other information provided in the petition and in Service files indicates the species is extinct. The petition states several times that the species is “on the brink of extinction” or “already extinct” (pp. 2, 4, 5). Furthermore, the species is considered Historical by the Mississippi Natural Heritage Program (MNHP 1999), listed as extinct by the International Union for Conservation of Nature (IUCN 2004), and is assigned the global rank GH (possibly extinct) by NatureServe (NatureServe 2002). Based on this information, we conclude the species is extinct.

The petition presented information for three of the five listing factors (Factors A, D, and E) in section 4 of the Act in an effort to identify threats that may be leading or have lead to the decline of the Bay Springs salamander. However, these factors are pertinent only in cases where the organism being proposed for listing is present and thus capable of being affected by any threats. Because the information in our files indicates that the Bay Springs salamander is extinct, it does not meet the definition of endangered species or a threatened species under the Act (sections 3(6) and 3(20) of the Act, respectively). Therefore, an analysis of the five threat factors is not appropriate.

Finding

In summary, we reviewed the information presented in the petition and evaluated that information in relation to information readily available in our files. On the basis of our evaluation of this information under section 4(b)(3)(A) of the Act, we conclude that the petition does not present substantial scientific or commercial information indicating that listing the Bay Springs salamander under the Act as endangered may be warranted at this time. This finding is based on information that indicates the species is extinct and, therefore, does not meet the definition of either an endangered species or a threatened species under the Act.

Although we will not review the status of the species at this time, we encourage interested parties to continue to submit to us any new information regarding the Bay Springs salamander. If you wish to provide information regarding the Bay Springs salamander, you may submit your information or materials to the Field Supervisor, Mississippi Field Office (see ADDRESSES), at any time.

References Cited

A complete list of references cited is available on the Internet at http://www.regulations.gov and upon request from the Mississippi Field Office (see ADDRESSES).

Authors

The primary authors of this notice are the staff members of the Mississippi Field Office (see ADDRESSES).

Authority

The authority for this action is the Endangered Species Act of 1973, as amended (16 U.S.C. 1531 et seq.).

Dated: October 15, 2010.
Gary D. Frazer,
Acting Director, U.S. Fish and Wildlife Service.

[FR Doc. 2010-27514 Filed 11-1-10; 8:45 am]

BILLING CODE P